DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein.

DATES: Comments must be received on or before January 9, 2023.

ADDRESSES: Record Center, Pipeline and Hazardous Materials Safety Administration, U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: 1—Motor vehicle, 2—Rail freight, 3—Cargo vessel, 4—Cargo aircraft only, 5—Passenger-carrying aircraft.

Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on December 6, 2022.
Donald P. Burger,
Chief, General Approvals and Permits Branch.

Application No. | Applicant | Regulation(s) affected | Nature of the special permits thereof
Special Permits Data
21478-N | Fibre Drum Sales, Inc | 172.200, 172.500 | To authorize the transportation in commerce of intermediate bulk containers (IBCs), containing only a residue of a hazardous material, in the manner authorized for non-bulk packagings in 49 CFR 173.29(c). (modes 1, 2)
21479-N | Astra Space Operations, Inc | 173.301(f)(1), 178.35(e) | To authorize the transportation in commerce of cylinders that are not equipped with pressure relief devices. (modes 1, 2, 3, 4, 5)
21480-N | Korean Air Lines Co., Ltd | 172.101(j)(1), 173.27(b)(2), 173.27(b)(3), 175.30(a)(1) | To authorize the transportation in commerce of certain explosives that are forbidden for transportation by aircraft. (mode 4)
21483-N | Trinity Industries, Inc. | 172.203(a), 172.302(c), 179.100-12(c) | To authorize the manufacture, mark, sale, and use of DOT 105 tank cars equipped with a welded protective housing. (mode 2)
21484-N | Probe Technology Services, Inc | 173.301(a)(1), 173.304(a), 173.304a(a)(2), 173.304a(a)(2) | To authorize the transportation in commerce of non-DOT specification cylinders containing sulfur hexafluoride. (modes 1, 2, 3, 4, 5)
21486-N | Colorado Department of Public Health and Environment | 171.2(k) | This special permit authorizes the transportation in commerce of packages of non-hazardous material identified as “Biological substance, Category B”, for purposes of shipping and packaging drills conducted to evaluate bioterrorism, chemical terrorism and pandemic influenza preparedness. (modes 1, 4, 5)

[FR Doc. 2022-26811 Filed 12-8-22; 8:45 am]

BILLING CODE P